DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda for a meeting of the Science Advisory Board (SAB). The members will discuss issues outlined in the section on Matters to be considered.

DATES: The meeting is scheduled for July 31, 2024, from 9:45 a.m. to 4:45 p.m. Eastern Standard Time (EST) and on August 1, 2024, from 8:30 a.m. to 12:35 p.m. EST. These times and the agenda topics described below are subject to change.

For the latest agenda please refer to the SAB website: http://sab.noaa.gov/SABMeetings/.

ADDRESSES: The meeting location is at the NOAA Great Lakes Environmental Research Laboratory at 4840 State Rd, Ann Arbor, MI 48108. The exact meeting location and a link for the webinar registration will be posted, when available, on the SAB website: https://sab.noaa.gov/current-meetings/.

FOR FURTHER INFORMATION CONTACT: Casey Stewart, Executive Director, SSMC3, Room 11360, 1315 East-West Hwy., Silver Spring, MD 20910; Phone Number: 240-381-0833; Email: noaa.scienceadvisoryboard@noaa.gov; or visit the SAB website at https://sab.noaa.gov/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The July 31-August 1, 2024, meeting will be open to public participation with a 15-minute public comment period at 4:30 p.m. EST on July 31, 2024. The SAB expects that public statements presented at its meetings will not be repetitive of previously submitted verbal or written statements. In general, each individual or group making a verbal presentation will be limited to a total time of three minutes. Written comments for the July 31 and August 1, 2024, meeting should be received by the SAB Executive Director's Office (noaa.scienceadvisoryboard@noaa.gov) by July 9, 2024, to provide sufficient time for SAB review. Written comments received by the SAB Executive Director after these dates will be distributed to the SAB but may not be reviewed prior to the meeting date.

Special Accommodations: These meetings are physically accessible to people with disabilities. Requests for special accommodations may be directed to the Executive Director no later than 12 p.m. on July 16, 2024.

Matters to be Considered: The meeting on July 31-August 1, 2024, will include the following topics: (1) the SAB Consent Calendar, (2) Review of Action Items from March and June 2024 SAB Meetings, (3) NOAA Update, (4) NOAA Science Update, (5) SAB Tsunami Science and Technology Advisory Panel (TSTAP) Statement on the National Tsunami Hazard Mitigation Program, (6) Cooperative Science Centers (CSC) and Building NOAA's Workforce, (7) Discussion (GLERL CSC Alumni; NOAA OHCS; Advisor on Youth Engagement, (8) Strategic Session on Great Lakes/transboundary/international, (9) Cooperative Institute (CI) for Meteorological Satellite Studies (CIMSS) Review Report, (10) CI for Climate, Ocean, and Ecosystem Review Report (CICOES), (11) CI for Marine, Earth and Atmospheric Systems (CIMEAS) Report, (12) CI for Marine and Atmospheric Studies (CIMAS) Review Report, (13) NOAA Response to SAB Ecosystem Science and Management Working Group (ESMWG) Rapidly Changing Marine Environment Report, (14) NOAA Response to and a Update on SAB Net Zero Emissions Fleet, and (15) Business Development Working Group Update.

Meeting materials, including work products, will also be available on the SAB website: https://sab.noaa.gov/current-meetings/current-meeting-documents/.

David Holst,
Chief Financial Officer/Administrative Officer, Office of Oceanic and Atmospheric Research, National Oceanic and Atmospheric Administration.

[FR Doc. 2024-13765 Filed 6-21-24; 8:45 am]

BILLING CODE 3510-kd-P